DEPARTMENT OF HOUSING AND URBAN DEVELOPMENT

[Docket No. FR-5752-N-91]

30-Day Notice of Proposed Information Collection: Continuum of Care Homeless Assistance Grant Application—Continuum of Care Registration

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: December 19, 2014.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email at Colette Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A.

The Federal Register notice that solicited public comment on the information collection for a period of 60 days was published on September 11, 2014.

A. Overview of Information Collection

Title of Information Collection: Continuum of Care Homeless Assistance Grant Application—Continuum of Care Registration.

OMB Approval Number: 2506-0182.

Type of Request: Revision of a currently approved collection.

Form Number: Not Applicable.

Description of the need for the information and proposed use: The regulatory authority to collect this information is contained in 24 CFR part 579, and the HEARTH Act. The CoC Homeless Assistance Application Registration (OMB 2506-0182) is the first part of the information collection process to be used in HUD's annual competitive homeless assistance program, the CoC Program, authorized by the HEARTH Act. It is separate from the annual CoC Homeless Assistance Consolidated Application, which contains the CoC Application and the Project Applications that are covered under the approved PRA package 2506-0112. This separation is necessary due in to the fact that the CoC Registration occurs several months before collection of the CoC Homeless Assistance Consolidated Application and that the information collected during CoC Registration does not frequently change.

The annual CoC Registration comprises the first phase of the combined CoC Homeless Assistance information collection form. During this phase, HUD collects the contact information of the collaborative applicant for the CoC, and the HMIS Lead Agency as well as the geographic areas served by the CoC applicant. Additionally, CoCs approve their preliminary pro-rata need and affirm their annual renewal demand, and HUD collects information regarding the CoC's board structure and the capacity of the CoC to carry out the various activities outlined in the program regulations. The registration information is necessary to assist in the selection of project proposals submitted to HUD (by State and local governments, public housing authorities, and nonprofit organizations) for the awarded funds during the annual CoC competition because it provides vital information about the CoC applicants.

All collaborative applicants are required to register their CoCs in the e-snaps electronic grants management system prior to the opening of the CoC Homeless Assistance competition. The registration requirements include a basic description of the CoC's lead organization, contact information, and geographic area. The information to be collected by HUD will be used to determine eligibility for CoC Homeless Assistance and establish grant amounts. To determine the total amount a CoC may request for renewal funding, collaborative applicants will list their Continuum's programs on a Grant Inventory Worksheet (GIW) that will allow HUD to accurately assess individual project applications during the CoC Application process. The information from the GIW is essential for operation of the CoC competition. For the CoC, the GIW allows each CoC to see all the project grants side-by-side that will be eligible for competition in the annual competition. This then allows them to determine, in communication with HUD, the total amount of funding (the annual renewal demand or ARD) that their CoC has available in a given competition year, which then allows them to make informed planning decisions about which project grants they want to prioritize, reduce or eliminate in the actual CoC Homeless Assistance Program Application. In turn, the program details in the GIW allow HUD to conduct an accurate assessment of renewal project applications and to determine in the aggregate what the total renewal demand for all CoCs will likely be. HUD can then determine how much of the annual appropriation will be available for new projects (once all the funding for renewals is covered), or in years of budget shortages, how much CoCs will be advised to cut from their total funding to meet the amount of funds available.

The optional board requirement questions in the registration forms are an important part of the registration process. To meet the performance goals established by statute, CoCs will need to significantly increase their capacity for strategy, planning, monitoring, and evaluation. In addition, the HEARTH Act and the 24 CFR part 578 allow for the development of United Funding Agencies (UFAs), a significant change to the structure of the CoC and the relationship between HUD and grantees. For the CoCs that seek UFA status, they must demonstrate that they have the operational capacity and a high functioning CoC Board that can serve as the sole manager of their projects, in order to qualify. With UFA established by statute and regulation, HUD needs as much information as possible regarding the baseline operational readiness of CoCs, and the few CoCs that may apply as a UFA will need to provide more information during the Registration process. As recently as the FY2013 competition, only 16 CoCs applied for UFA status, three were conditionally approved, and ultimately only two met the high standards of management and organizational capacity needed to serve this function. Providing all CoCs with the option of reporting their Board status will allow HUD to prepare for UFA applications and estimate how our program resources will need to be allocated over the next few years of program implementation.

Respondents: (i.e. affected public): States, local governments, private nonprofit organizations, public housing authorities, and community mental health associations that are public nonprofit organizations.

Estimated Number of Respondents: 410 Respondents.

Estimated Number of Responses: 410 responses per year.

Frequency of Response: Once a year.

Average Hours per Response: Two to three hours per response (two for most applicants and three for UFA applicants).

Total Estimated Burdens: 840 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: November 12, 2014.
Colette Pollard,
Department Reports Management Officer, Office of the Chief Information Officer.

[FR Doc. 2014-27306 Filed 11-18-14; 8:45 am]

BILLING CODE 4210-67-P